DEPARTMENT OF THE TREASURY

Internal Revenue Service

Open Meeting of the Area 5 Taxpayer Advocacy Panel (Including the States of Iowa, Kansas, Minnesota, Missouri, Nebraska, North Dakota, Oklahoma, South Dakota, and Texas)

AGENCY: Internal Revenue Service (IRS), Treasury.

ACTION: Notice.

SUMMARY: An open meeting of the Area 5 Taxpayer Advocacy Panel will be conducted (via teleconference). The Taxpayer Advocacy Panel is soliciting public comment, ideas, and suggestions on improving customer service at the Internal Revenue Service.

DATES: The meeting will be held Monday, January 12, 2004, at 3 p.m., Central Time.

FOR FURTHER INFORMATION CONTACT: Audrey Jenkins at 1-888-912-1227, or (718) 488-2085.

SUPPLEMENTARY INFORMATION: Notice is hereby given pursuant to section 10(a)(2) of the Federal Advisory Committee Act, 5 U.S.C. App. (1988) that an open meeting of the Area 5 Taxpayer Advocacy Panel will be held Monday, January 12, 2004, from 3 to 4 p.m. Central time via a telephone conference call. You can submit written comments to the panel by faxing to (718) 488-2062, or by mail to Taxpayer Advocacy Panel, 10 Metro Tech Center, 625 West Fulton Street, Brooklyn, NY 11201. Public comments will also be welcome during the meeting. Please contact Audrey Jenkins at 1-888-912-1227 or (718) 488-2085 for more information.

The agenda will include the following: Various IRS issues.

Dated: December 11, 2003.
Bernard Coston,
Director, Taxpayer Advocacy Panel.

[FR Doc. 03-31240 Filed 12-17-03; 8:45 am]

BILLING CODE 4830-01-P